ENVIRONMENTAL PROTECTION AGENCY

[FRL-7883-9]

Science Advisory Board Staff Office; Notification of Advisory Meeting of the Science Advisory Board; Regulatory Environmental Modeling (REM) Guidance Review Panel

AGENCY: Environmental Protection Agency (EPA).

ACTION: Notice.

SUMMARY: The Science Advisory Board (SAB) Regulatory Environmental Modeling (REM) Guidance Review Panel will hold a public advisory meeting, as a teleconference, to discuss preparation of its draft peer review report of the Agency's draft guidance entitled, “Draft Guidance on the Development, Evaluation, and Application of Regulatory Environmental Models,” dated November 2003 (referred to here also as the Draft Guidance), and the “Models Knowledge Base” related to modeling activity within the EPA.

DATES: March 28, 2005, 1 to 4 p.m. eastern standard time.

ADDRESSES: The public teleconference will take place via teleconference only.

FOR FURTHER INFORMATION CONTACT: Any member of the public who wishes to obtain the teleconference call-in number and access code, would like to submit written or brief oral comments (5 minutes or less for the public face-to-face meeting, and 3 minutes or less for the public teleconference meeting), or who wants further information concerning this public meeting should contact Dr. Jack Kooyoomjian, Designated Federal Officer (DFO), EPA SAB, 1200 Pennsylvania Avenue, NW. (MC 1400F), Washington, DC 20460; via telephone/voice mail: (202) 343-9984; fax: (202) 233-0643; or e-mail at: kooyoomjian.jack@epa.gov. The general SAB telephone number is (202) 343-9999 to obtain the dial in number and pass code for the conference call. General information concerning the SAB can be found on the SAB Web site at: http://www.epa.gov/sab.

SUPPLEMENTARY INFORMATION: Background: The EPA's Office if Research Development (ORD) requested that the SAB review the Agency's Draft Guidance and Models Knowledge Base. Additional background information on this review activity, such as the Federal Register notice (68 FR 46602, Aug. 6, 2003) soliciting nominations for REM Guidance Review Panel membership and the Federal Register notice (70 FR 1243, January 6, 2005) announcing the January 21, 2005, public conference call and the February 7 through 9, 2005, face-to-face meeting can be found on the SAB Web site at: http://www.epa.gov/sab/panels/.

Purpose of the March 28, 2005 Public Teleconference: The purpose of this public teleconference meeting is to prepare the SAB REM Guidance Review Panel consensus draft report.

Availability of Meeting Materials: Copies of the meeting agendas, the roster of the SAB's REM Guidance Review Panel, the charge to the SAB, and pre-decisional draft materials of the REM Guidance Advisory Panel will be posted on the SAB Web site at: http://www.epa.gov/sab/panels/ prior to the meeting. Persons who wish to obtain copies of the Agency's Draft Guidance, the Models Knowledge Base or other materials pertinent to this advisory activity may obtain these materials at http://www.epa.gov/crem, or http://www.epa.gov/crem/sab.

For further information regarding the Agency's Draft Guidance or Models Knowledge Base or other relevant background materials, please contact Mr. Pasky Pascual of the U.S. EPA, Office of Research & Development (Mail Code 8102), by telephone/voice mail at (202) 564-2259, by fax at (202) 565-2925; or via e-mail at pascual.pasky@epa.gov.

Providing Oral or Written Comments at SAB Meetings: It is the policy of the SAB Staff Office to accept written public comments of any length, and to accommodate oral public comments wherever possible. The SAB Staff Office expects the public statements presented at its meetings will not be repetitive of previously-submitted oral or written statements. Oral Comments: In general, each individual or group requesting an oral presentation at a public face-to-face meeting will be limited to a total time of five minutes (unless otherwise indicated), and three minutes at a teleconference meeting (unless otherwise indicated). Requests to provide oral comments must be in writing (e-mail, fax, or mail) and received by the DFO no later than noon Eastern Time five business days prior to the meeting in order to reserve time on the meeting agenda. Speakers should bring at least 35 copies of their comments and presentation slides for distribution to the reviewers and public at the meeting. Written Comments: Although the SAB Staff Office accepts written comments until the date of the meeting (unless otherwise stated), written comments should be received in the SAB Staff Office no later than noon Eastern Time five business days prior to the meeting so that the comments may be made available to the Panelists for their consideration. Comments should be supplied to the DFO (preferably by e-mail) at the address/contact information noted above in the following formats: one hard copy with original signature, and one electronic copy via e-mail (acceptable file format: Adobe Acrobat PDF, WordPerfect, Word, or Rich Text files (in IBM-PC/Windows 98/2000/XP format)). Those providing written comments and who attend the meeting are also asked to bring 35 copies of their comments for public distribution.

Meeting Access: Individuals requiring special accommodation for this public meeting, such as hearing impaired accommodations for the teleconference call should contact the DFO at least five business days prior to the meeting, so that appropriate arrangements can be made.

Dated: March 9, 2005.
Vanessa T. Vu,
Director, EPA Science Advisory Board Staff Office.

[FR Doc. 05-4954 Filed 3-11-05; 8:45 am]

BILLING CODE 6560-50-P